DEPARTMENT OF COMMERCE

International Trade Administration

[A-533-840]

Certain Frozen Warmwater Shrimp From India: Rescission of Antidumping Duty Administrative Review, in Part; 2023-2024

AGENCY: Enforcement and Compliance, International Trade Administration, Department of Commerce.

SUMMARY: On April 9, 2024, the U.S. Department of Commerce (Commerce) initiated an administrative review of the antidumping duty (AD) order on certain frozen warmwater shrimp (shrimp) from India for the period of review (POR) February 1, 2023, through January 31, 2024, for 373 companies. Because all interested parties timely withdrew their requests for administrative review for certain companies, we are rescinding this administrative review, in part, with respect to those companies. In addition, we are also rescinding this administrative review with respect to certain other companies because they had no reviewable entries of subject merchandise during the POR. For a list of the companies for which we are rescinding this review based on timely withdrawals of requests for review, see Appendix I to this notice. For a list of the companies for which we are rescinding this review in the absence of suspended entries of subject merchandise during the POR, see Appendix II to this notice. For a list of the companies for which the review is continuing, see Appendix III to this notice.

DATES: Applicable May 16, 2025.

FOR FURTHER INFORMATION CONTACT: Aislin Salassi, AD/CVD Operations, Office IX, Enforcement and Compliance, International Trade Administration, U.S. Department of Commerce, 1401 Constitution Avenue NW, Washington, DC 20230; telephone: (202) 482-1882.

Background

On February 2, 2024, Commerce published in the Federal Register a notice of opportunity to request an administrative review of the AD order on shrimp from India for the POR February 1, 2023, through January 31, 2024.¹ In February 2024, Commerce received timely requests, in accordance with section 751(a) of the Tariff Act of 1930, as amended (the Act), to conduct an administrative review of the Order from the Ad Hoc Shrimp Trade Action Committee (the petitioner),² the American Shrimp Processors Association (ASPA),³ the U.S. Shrimpers Coalition's (USSC's),⁴ and certain individual companies.⁵ Based upon these requests, on April 9, 2024, in accordance with section 751(a) of the Act and 19 CFR 351.221(c)(1)(i), Commerce published a notice of initiation in the Federal Register covering 373 companies for which Commerce received timely requests for review.⁶

¹ See Antidumping or Countervailing Duty Order, Finding, or Suspended Investigation; Opportunity To Request Administrative Review and Join Annual Inquiry Service List, 89 FR 7366 (February 2, 2024); see also Notice of Amended Final Determination of Sales at Less Than Fair Value and Antidumping Duty Order: Certain Frozen Warmwater Shrimp from India, 70 FR 5147 (February 1, 2005) (Order).

² See Petitioner's Letter, “Request for Administrative Reviews,” dated February 27, 2024.

³ See ASPA's Letter, “American Shrimp Processors Association's Request for Administrative Reviews,” dated February 29, 2024.

⁴ See the U.S. Shrimpers Coalition's (USSC's) Letter, “Request for Administrative Review,” dated February 29, 2024.

⁵ See Devi Fisheries Limited's Letter, “Request for 19th Administrative Review covering the Period from 01st February 2023 to 31st January 2024,” dated February 26, 2024; the Indian Producers and Exporters' Letter, “Request for Administrative Reviews for Indian Producers/Exporters (02/01/23-01/31/24),” dated February 27, 2024; B-One Business House Private Limited's (B-One's) Letter, “Request for Administrative Review of B-One During POR February 01, 2023 to January 31, 2024,” dated February 28, 2024; Megaa Moda Pvt. Ltd.'s (Megaa Moda's) Letter, “Request for Administrative Review of Megaa Moda Pvt. Ltd. for the POR February 01, 2023 to January 31, 2024,” dated February 28, 2024; RSA Marines' Letter, “Request for Administrative Review of RSA Marines During POR February 01, 2023 to January 31, 2024,” dated February 29, 2024; and West Coast Frozen Foods Private Limited's (West Coast's) Letter, “Request for Administrative Review of West Coast Frozen Foods Private Limited During POR February 01, 2023 to January 31, 2024,” dated February 29, 2024.

⁶ See Initiation of Antidumping and Countervailing Duty Administrative Reviews, 89 FR 24780 (April 9, 2024).

In July 2024, interested parties timely withdrew their requests for an administrative review of certain companies.⁷ However, because there are review requests remaining for each of these companies except those listed in the USSC's withdrawal letter, these companies remain under administrative review. The companies for which all interested parties withdrew their requests are listed in Appendix I.

⁷ See B-One's Letter, “B-One Business House Private Limited (“B-One”) Withdrawal of Request for Review of the Antidumping Duty Order on Certain Frozen Warm-water Shrimp from India (A-533-840) for period of February 01, 2023 to January 31,2024,” dated July 8, 2024; Megaa Moda's Letter, “Megaa Moda Pvt Ltd Withdrawal of Request for Review of the Antidumping Duty Order on Certain Frozen Warm-water Shrimp from India (A-533-840) for period of February 01, 2023 to January 31, 2024,” dated July 8, 2024; RSA Marines' Letter, “RSA Marines Withdrawal of Request for Review of the Antidumping Duty Order on Certain Frozen Warm-water Shrimp from India (A -533-840) for period of February 01, 2023 to January 31, 2024,” dated July 8, 2024; USSC's Letter “Withdrawal of Request for Administrative Review,” dated July 8, 2024; and West Coast's Letter, “Withdrawal Request for Administrative Review of West Coast Frozen Foods Private Limited During POR February 01, 2023 to January 31, 2024,” dated July 8, 2024.

Partial Rescission

Pursuant to 19 CFR 351.213(d)(1), the Secretary will rescind an administrative review, in whole or in part, if a party who requested the review withdraws the request within 90 days of the date of publication of notice of initiation of the requested review. As noted above, certain parties withdrew their requests for review by the 90-day deadline. Accordingly, we are rescinding this administrative review with respect to the companies listed in Appendix I.

Further, pursuant to 19 CFR 351.213(d)(3), Commerce's practice is to rescind an administrative review of an AD order where it concludes that there were no suspended entries of subject merchandise during the POR.⁸ Normally, upon completion of an administrative review, the suspended entries are liquidated at the antidumping duty assessment rate for the review period.⁹ Therefore, for an administrative review to be conducted, there must be a reviewable, suspended entry that Commerce can instruct U.S. Customs and Border Protection (CBP) to liquidate at the calculated antidumping duty assessment rate for the review period.¹⁰ Commerce notified all interested parties of its intent to rescind the instant review regarding the companies listed in Appendix II because there were no reviewable, suspended entries of subject merchandise from these companies during the POR and invited interested parties to comment.¹¹ We received comments from ASPA, which argued that Commerce should not rescind the review for certain companies listed in the Intent to Rescind Memorandum.¹² As a result, Commerce clarified that we do not intend to rescind the review of Growel Processors Private Limited because this company appears in the CBP Data.¹³ However, for other companies listed by ASPA, consistent with our practice, in the absence of any suspended entries of subject merchandise from these companies during the POR, we are rescinding this administrative review for the companies listed in Appendix II, in accordance with 19 CFR 351.213(d)(3).

⁸ See, e.g., Certain Carbon and Alloy Steel Cut-to Length Plate from the Federal Republic of Germany: Recission of Antidumping Administrative Review; 2020-2021, 88 FR 4154 (January 24, 2023).

⁹ See 19 CFR 351.212(b)(1).

¹⁰ See, e.g., Shanghai Sunbeauty Trading Co. v. United States, 380 F. Supp. 3d 1328, 1337 (CIT 2019), at 12 (referring to section 751(a) of the Act, the CIT held: “While the statute does not explicitly require that an entry be suspended as a prerequisite for establishing entitlement to a review, it does explicitly state the determined rate will be used as the liquidation rate for the reviewed entries. This result can only obtain if the liquidation of entries has been suspended”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹¹ See Memorandum, “Notice of Intent to Rescind Review, In Part,” dated August 7, 2024 (Intent to Rescind Memorandum).

¹² See ASPA's Letter, “ASPA's Comments on Intent to Rescind,” dated August 16, 2024. Subsequently, we issued a clarification to the Intend to Rescind Memorandum. See Commerce's Memorandum, “Clarification Regarding Intent to Rescind Memorandum,” dated August 22, 2024 (Intent to Rescind Clarification Memorandum). As noted in the Intent to Rescind Memorandum, Commerce relies on CBP entry data on U.S. imports of subject merchandise during the POR that it placed on the record for comment when determining whether there are suspended entries.

¹³ See Intent to Rescind Clarification Memorandum.

Assessment

For the companies for which this review is being rescinded, in part, Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP no earlier than 35 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: May 12, 2025.
Scot Fullerton,
Acting Deputy Assistant Secretary for Antidumping and Countervailing Duty Operations.

Appendix I

Rescinded Based on Timely Withdrawals of Requests for Review

Premier Mills Private Limited

Ramoji Group of Companies

Ushodaya Enterprises Private Ltd.

Appendix II

Rescinded in the Absence of Suspended Entries of Subject Merchandise During the POR

Aachi Masala Foods (P) Ltd.

Aarshi Overseas Private Ltd.

Abad Fisheries; Abad Fisheries Pvt. Ltd.

ADF Foods Ltd.

Aerath Business Corp.

AJS Enterprises LLP

Al-Hassan Overseas Private Limited

Allana Frozen Foods Pvt. Ltd.

Allanasons Ltd.

Alps Ice & Cold Storage Private Limited

Amarsagar Seafoods Private Limited

Amulya Seafoods

Anantha Seafoods Private Limited

Andaman Sea Foods Pvt. Ltd.

Anjaneya Sea Foods

Apar Industries Limited

Aquamarine Food Products Ltd.

Aquastar Marine Exports

Ariba Foods Pvt. Ltd.

Asvini Agro Exports

Asvini Exports

Aswin Associates

Atlas Fisheries Private Limited

Avanti Feeds Limited

Avla Nettos Exports

Ayshwarya Sea Food Private Limited

B R Traders

Baby Marine Eastern Exports

Baby Marine Exports

Baby Marine International

Baby Marine Sarass

Baby Marine Ventures

Bafna Enterprises

Balasore Marine Exports Private Limited

Bakemill Foods

Baraka Overseas Traders

Basu International

BB Estates & Exports Private Limited

Bell Foods (Marine Division); Bell Exim Private Limited (Bell Foods (Marine Division))

Bergwerff Organic India Private Limited

Bhatsons Aquatic Products

Bhavani Seafoods

Bhimraj Exports Private Limited

Bijaya Marine Products

Bluepark Seafoods Pvt. Ltd.

Blue Sea Resources Private Limited

Bluetide Eservices Pvt., Ltd.

Blue Water Foods & Exports P. Ltd.

Britannia Industries Limited

Britto Seafoods Exp. Pvt. Ltd.; Britto Exports; Britto Exports Pvt. Ltd.

C Private Limited

C.P. Aquaculture (India) Pvt. Ltd.

Canaan Marine Products

CAP Seafoods Private Limited

Capital Foods Private Limited

Capithan Exporting Co.

Cargomar Private Limited

Charoen Pokphand Group Co., Ltd.

Chakri Fisheries Private Limited

Chemmeens (Regd)

Cherukattu Industries (Marine Div); Cherukattu Industries

Choice Canning Company

Cochin Frozen Food Exports Pvt. Ltd.

Cofoods Processors Private Limited

Continental Fisheries India Private Limited

Coreline Exports

Costar Processor

CPF India Private Ltd.

Crystal Sea Foods Private Limited

Danica Aqua Exp. Private Ltd.

Datla Sea Foods

Deepak Nexgen Foods And Feeds Private Limited

Deepmala Marine Exports

Delsea Exports Pvt. Ltd.

Desai Foods Private Ltd.

Devi Sea Foods Limited

DSF Aquatech Private Limited

Eden Garden Exports

Ega Trade Center No. 809

Empire Industries Limited

Entel Food Products Private Limited

Esmario Export Enterprises

Everblue Sea Foods Private Limited

Fair Exp. (India) Pvt., Ltd.

Febin Marine Foods Private Limited; Febin Marine Foods

Fedora Sea Foods Private Limited

Five Star Marine Exports Private Limited

Fouress Food Products Pvt. Ltd.

Frontline Exports Pvt. Ltd.

G A Randerian Ltd.; G A Randerian (P) Limited

Gadre Marine Export P Ltd.

Gaurav International

Galaxy Maritech Exports P. Ltd.

Geo Aquatic Products (P) Ltd.

Ghan Marine Products

GKS Business Associates Private Limited

Global Gourmet Private Limited

Glossy Impex Private Limited

Goana Foods Prop. Cyd Paes

Gokul Overseas Ltd.

Grand Marine Foods

Grandtrust Overseas (P) Ltd.

GVR Exports Pvt. Ltd.

Hari Marine Private Limited

Haripriya Marine Exports Pvt. Ltd.

Heiploeg Seafood India Pvt., Ltd.

HIC ABF Special Foods Pvt. Ltd.

High Care Marine Foods Exports Private Limited

Hiravati Exports Pvt. Ltd.

Hiravati International Pvt. Ltd.

Hiravati Marine Products Private Limited

HMG Industries Ltd.

HN Indigos Private Ltd.

HT Foods Private Limited

Hyson Logistics and Marine Exports Private Limited

India Gills

Indian Aquatic Products

Indo Aquatics

Indo Fisheries

Indo French Shellfish Company Private Limited

Innovative Foods Limited

Intl Exporters Foodparks Private Ltd.

International Freezfish Exports

Jeelani Marine Products

Jinny Marine Traders

Jigar Enterprises

Joecons Marine Exp. Pvt., Ltd.

Jude Foods India Private Limited

K R Sea Foods Private Limited

K.V. Marine Exports

Kanu Krishna Corporation

Karunya Marine Exports Private Limited

Karam Chand Thapar & Bros. Ltd.

Kaushalya Aqua Marine Product Exports Pvt. Ltd.

Kiefer Sea Foods

Kings Infra Ventures Limited

Kings Marine Products

Koluthara Exports Ltd.

Kohinoor Foods Limited

Kumars Foods

Kyobashi Premier Freeze Dry Private Ltd.

Latecoere India Private Ltd.

Libran Foods

Lito Marine Exports Private Limited

Mangala Sea Products

Manjilas Food Tech Private Ltd.

Marine Harvest India

Meghmani Industries Ltd.

Milsha Sea Products

Minaxi Fisheries Private Limited

Minh Phu Group

MTR Foods

Naik Frozen Foods Private Limited; Naik Frozen Foods

Naik Oceanic Exports Pvt. Ltd.; Rafiq Naik Exports Pvt. Ltd.

Naik Seafoods Ltd.

Naq Foods India Private Limited

Nas Fisheries Pvt. Ltd.

Nector Exp. Pvt., Ltd.

Nekkanti Mega Food Park Private Limited

New Faizan Foods

Nilamel Exp.

Nine Up Frozen Foods

Nutrient Marine Foods Limited

Oceanic Edibles International Limited

Orchid Marine Exports Private Limited

Oriental Export Corporation

Paragon Sea Foods Pvt. Ltd.

Paramount Seafoods

Pesca Marine Products Pvt., Ltd.

Phillips Foods India Private Ltd.

Pijikay International Exports P Ltd.

Pohoomal Kewalram Sons Exports Pvt Ltd.

Poyilakada Fisheries Private Limited

Pravesh Seafood Private Limited

Premas Enterprises Private Ltd.

Premier Exports International

Premier Marine Foods

Premier Seafoods Exim (P) Ltd.

Pridel Pvt., Ltd.

Protech Organo Foods Private Limited

RDR Exports

RF Exports Private Limited

R.K. Industries IV

R V R Marine Products Private Limited

Ram's Assorted Cold Storage Limited

Raju Exports

Raunaq Ice & Cold Storage

Relish Custom Foods

Rising Tide

Riyarchita Agro Farming Private Limited

Rizwan Ice & Cold Storage Partnership Firm Pvt Ltd.

Ronisha Exp.

Royal Exports

Royalux Exports Private Limited

Rupsha Fish Private Limited

Ruthi Imp. & Exp.

S Chanchala Combines

Safera Food International

S.H. Marine Exim

Sagar Marine Imp. & Exp.

Sagar Samrat Seafoods

Sahada Exports

Sai Aquatechs Private Limited

Sai Sea Foods

Salet Seafoods Pvt. Ltd.

Samaki Exports Private Limited

Sanchita Marine Products Private Limited

Sandy Bay Seafoods India Private Limited

Sassoondock Matsyodyog Sahakari Society Ltd.

Sas Exports

Sea Doris Marine Exports

Seagold Overseas Pvt. Ltd.

Seasaga Enterprises Private Limited; Seasaga Group

Seaeyes Stem Limited

Sealands

Seema Enterprises

Sheseema Exp.

Shimpo Seafoods Private Limited

Shiva Frozen Food Exp. Pvt. Ltd.

Shree Ram Agro Industries

Shroff Processed Food & Cold Storage P Ltd.

Silver Seafood

Sita Marine Exports

SKML Exim Private Limited

SMD Rays

Sonia Fisheries

Sonia Marine Exports Private Limited

Sresta Natural Bioproducts Pvt., Ltd.

Sri Sakkthi Cold Storage

Sri Ayyanar Exp.

Sri Sai Marine Exp.

Srikanth International

SSF Ltd.

St. Peter and Paul Sea Food Exports Private Limited

Star Agro Marine Exports Private Limited

Star Organic Foods Private Limited

Stellar Marine Foods Private Limited

Sterling Foods

Subu Sea Foods

Sun Agro Exim

Sunrise Aqua Food Exports

Supran Exim Private Limited

Suvarna Rekha Exports Private Limited

Suvarna Rekha Marines P Ltd.

Swadam Exp. (Opc) Pvt., Ltd.

TBR Exports Private Limited

Teekay Marines Private Limited; Teekay Marine P. Ltd

Tej Aqua Feeds Private Limited

Torry Harris Seafoods Ltd.

TRDP Happy World Private Limited

Triveni Fisheries P Ltd.

U & Company Marine Exports

Ulka Sea Foods Private Limited

Uniroyal Marine Exports Limited

Unitriveni Overseas Private Limited; Unitriveni Overseas

Uniloids Biosciences Private Limited

Upasana Exports

Vaibhav Global Ltd.

Vasai Frozen Food Co.

Veronica Marine Exports Private Ltd.

Victoria Marine & Agro Exports Ltd.

Vinner Marine

Vitality Aquaculture Pvt. Ltd.

Vivek Agro Products

VKM Foods Private Limited

VRC Marine Foods LLP

West Coast Fine Foods (India) Private Limited

West Coast Frozen Foods Private Limited

Appendix III

Companies Remaining Subject to the Review

Abad Overseas Private Limited.

Accelerated Freeze Drying Co., Ltd.

Akshay Food Impex Private Limited

Alashore Marine Exports (P) Ltd.

Albys Agro Private Limited

Alpha Marine

Amaravathi Aqua Exports Private Ltd.

Ananda Aqua Applications; Ananda Aqua Exports (P) Limited; Ananda Foods

Ananda Enterprises (India) Private Limited

Aparna Marine Exports

Apex Frozen Foods Limited

Aquatica Frozen Foods Global Pvt. Ltd.

Arya Sea Foods Private Limited

Asvini Fisheries Ltd.; Asvini Fisheries Private Ltd.

Avanti Frozen Foods Private Limited

Blue-Fin Frozen Foods Pvt Ltd.

BMR Exports; BMR Exports Private Limited

BMR Industries Private Limited

B-One Business House Pvt. Ltd.

Calcutta Seafoods Pvt. Ltd.; Bay Seafood Pvt. Ltd.; Elque Ventures Private Limited

Castlerock Fisheries Ltd.

Choice Trading Corporation Pvt. Ltd.

Coastal Aqua Private Limited

Coastal Corporation Ltd.

Corlim Marine Exports Private Limited

Crystalnova Foods Pvt., Ltd.

Devi Fisheries Limited; Satya Seafoods Private Limited; Usha Seafoods; Devi Aquatech Private Limited

Diamond Seafoods Exports; Edhayam Frozen Foods Pvt. Ltd.; Kadalkanny Frozen Foods; Theva & Company

DN Sea Shells Private Limited

Dwaraka Sea Foods

Falcon Marine Exports Limited; KR Enterprises

Food Products Pvt., Ltd.; Parayil Food Products Pvt., Ltd.

Forstar Frozen Foods Private Limited

Geo Seafoods

Godavari Mega Aqua Food Park Private Limited

Green Asia Impex Private Limited

Growel Processors Private Limited ¹⁴

¹⁴ See Intent to Rescind Clarification Memorandum.

Highland Agro Food Private Limited

Hyson Exports Private Limited

IFB Agro Industries Ltd.

ITC Ltd.

Jagadeesh Marine Exports

Jaya Lakshmi Sea Foods Pvt. Ltd.

Kader Exports Private Limited

Kalyan Aqua & Marine Exp. India Pvt. Ltd.

Kay Kay Exports; Kay Kay Foods

KNC Agro Limited; KNC AGRO PVT. LTD.

LNSK Greenhouse Agro Products LLP

Magnum Export; Magnum Exports Pvt. Ltd.

Magnum Sea Foods Limited; Magnum Estates Limited; Magnum Estates Private; Magnum Estates Private Limited

Mangala Marine Exim India Pvt. Ltd.

Mangala Seafoods; Mangala Sea Foods

Megaa Moda Pvt. Ltd.

Milesh Marine Exports Private Limited

Milsha Agro Exports Pvt. Ltd.

Mindhola Foods LLP

MMC Exports Limited

Monsun Foods Pvt. Ltd.

Mourya Aquex Pvt. Ltd.

Munnangi Seafoods (Pvt) Ltd.

Naga Hanuman Fish Packers

Nanak Nutritions Food (Taloja) Pvt., Ltd.

Neeli Aqua Private Limited

Nekkanti Sea Foods Limited

Nezami Rekha Sea Foods Private Limited; Nezami Rekha Sea Food Private Limited

Nila Sea Foods Exports; Nila Sea Foods Pvt. Ltd.

N.K. Marine Exports LLP

Parayil Food Products Private Limited

Pasupati Aquatics Private Limited

Penver Products (P) Ltd.

Rajyalakshmi Marine Exports

Razban Seafoods Ltd.

Royal Imports and Exports

Royale Marine Impex Pvt. Ltd.

RSA Marines; Royal Oceans

S.A. Exports

Sagar Grandhi Exports Pvt. Ltd.

Sai Marine Exports Pvt. Ltd.

Sam Aqua Exports LLP

Sandhya Aqua Exports Pvt. Ltd.; Sandhya Aqua Exports

Sandhya Marines Limited

Satish Marine Exim Private Limited

Sea Foods Private Limited

Sharat Industries Ltd.

Shimpo Exports Private Limited

Shree Datt Aquaculture Farms Pvt. Ltd.

Sigma Seafoods

Southern Tropical Foods Pvt. Ltd.

Sprint Exports Pvt. Ltd.

Sreeragam Export Private Limited

Summit Marine Exports Private Limited

Sunrise Seafoods India Private Limited

Suryamitra Exim Pvt. Ltd.

The Waterbase Ltd.

V.V. Marine Products

Vaisakhi Bio-Marine Private Limited

Varma Marine Private Limited

Vasista Marine

Veerabhadra Exports Private Limited

Wellcome Fisheries Limited

Z.A. Sea Foods Pvt. Ltd.

Zeal Aqua Limited

[FR Doc. 2025-08721 Filed 5-15-25; 8:45 am]

BILLING CODE 3510-DS-P